DEPARTMENT OF JUSTICE

[OMB Number 1190-0008]

Agency Information Collection Activities, Proposed eCollection eComments Requested Extension Without Change, of a Previously Approved Collection; Federal Coordination and Compliance Section (FCS); FCS Complaint and Consent Form

AGENCY: Civil Rights Division, Department of Justice.

ACTION: 30-Day notice.

SUMMARY: The Department of Justice (DOJ), Civil Rights Division, Federal Coordination and Compliance Section, will be submitting the following information collection request to the Office of Management and Budget (OMB) for review and approval in accordance with the Paperwork Reduction Act of 1995.

DATES: The Department of Justice encourages public comment and will accept input until March 25, 2020.

FOR FURTHER INFORMATION CONTACT: If you have additional comments especially on the estimated public burden or associated response time, suggestions, or need a copy of the proposed information collection instrument with instructions or additional information, please contact Christine Stoneman, Acting Chief, Federal Coordination and Compliance Section, 950 Pennsylvania Avenue NW-4CON, Washington, DC 20002 (phone: 202-307-2222).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Complaint and Consent Form.

3. The agency form number, if any, and the applicable component of the Department sponsoring the collection: The form number is 1190-0008. The applicable component within the Department of Justice is the Federal Coordination and Compliance Section, in the Civil Rights Division.

4. Affected public who will be asked or required to respond, as well as a brief abstract: General public.

Information is used to find jurisdiction to investigate the alleged discrimination, to seek whether a referral to another agency is necessary and to provide information needed to initiate investigation of the complaint. Respondents are individuals.

5. An estimate of the total number of respondents and the amount of time estimated for an average respondent to respond: It is estimated that 4000 respondents will complete each form within approximately 30 minutes.

6. An estimate of the total public burden (in hours) associated with the collection: There are an estimated 2000 total annual burden hours associated with this collection.

If additional information is required contact: Melody Braswell, Department Clearance Officer, United States Department of Justice, Justice Management Division, Policy and Planning Staff, Two Constitution Square, 145 N Street NE, Room 3E.405A, Washington, DC 20530.

Dated: February 18, 2020.
Melody Braswell,
Department Clearance Officer for PRA, U.S. Department of Justice.

[FR Doc. 2020-03544 Filed 2-21-20; 8:45 am]

BILLING CODE 4410-13-P